DEPARTMENT OF TRANSPORTATION

Federal Aviation Administration

14 CFR Part 183

[Docket No. FAA-2024-0491]

Notice of Availability of Draft FAA Order 8100.15 Regarding Organization Designation Authorization (ODA) Procedures

AGENCY: Federal Aviation Administration (FAA), DOT.

ACTION: Notice of availability; request for comments.

SUMMARY: Draft revision C to FAA Order 8100.15 would incorporate other FAA policy issued to address certain provisions of the Aircraft Certification, Safety, and Accountability Act of 2020 (the Act), among other changes. This draft also introduces the Airmen Certification ODA type, reorganizes the existing content, and applies a systems based approach to oversight.

DATES: Send comments on or before October 21, 2024.

ADDRESSES: Send comments identified by docket number FAA-2024-0491, using any of the following methods:

Federal eRulemaking Portal: Go to https://www.regulations.gov and follow the online instructions for sending your comments electronically.

Mail: Send comments to Docket Operations, M-30, U.S. Department of Transportation (DOT), 1200 New Jersey Avenue SE, Room W12-140, West Building Ground Floor, Washington, DC 20590-0001.

Hand Delivery or Courier: Take comments to Docket Operations in Room W12-140 of the West Building Ground Floor at 1200 New Jersey Avenue SE, Washington, DC, between 9 a.m., and 5 p.m., Monday through Friday, except Federal holidays.

Fax: Fax comments to Docket Operations at (202) 493-2251.

Privacy: In addition to the final Order revision, the FAA will post all comments it receives, without change, to https://regulations.gov, including any personal information the commenter provides. DOT's complete Privacy Act Statement can be found in the Federal Register published on April 11, 2000 (65 FR 19476).

FOR FURTHER INFORMATION CONTACT: Mr. Scott Geddie, Policy and Oversight Integration Section, AVS-64, AVS ODA Office, Federal Aviation Administration, by telephone at 405-954-6897 or by email at Scott.Geddie@faa.gov.

SUPPLEMENTARY INFORMATION:

Background

Draft FAA Order 8100.15, Revision C, Organization Designation Authorization (ODA) Procedures, would provide updated policy associated with the requirements set forth in Title 14 Code of Federal Regulations (14 CFR) part 183, subpart D. The proposed changes include introduction of the Airmen Certification ODA type, reorganization of content and the introduction of a systems based approach to oversight. This draft revision also addresses certain provisions of the Act including the prevention of interference with ODA Unit Members (UMs) at companies that hold ODA, allowing communication between UMs and the FAA, FAA approval of UM selections made by Type Certificate (TC) ODA holders, and assignment of FAA advisors to UMs at TC ODA holders. The FAA seeks comments on a draft revision to the Order. You may examine the Order and an optional comment log template that may be helpful for providing comments in the docket or at: https://www.faa.gov/aircraft/draft_docs/.

Comments Invited

The FAA invites the public to submit comments on the proposed Order revision, as specified in the ADDRESSES section of this Notice. Commenters should include docket number FAA-2024-0491 and the subject line, “Comments to Draft Order 8100.15C, Organization Designation Authorization (ODA) Procedures” on all comments submitted to the FAA. The most helpful comments provide a specific recommendation, explain the reason for any recommended change, identify the paragraph(s) and/or subparagraph(s) associated with the recommendation, and include supporting information. The FAA will consider all comments received on or before the closing date before issuing the final Order revision. The FAA will also consider late-filed comments if it is possible to do so without incurring expense or delay.

Issued in Washington, DC.
Kevin A. Dickert,
Director, AVS-60 AVS ODA Office.

[FR Doc. 2024-16015 Filed 7-19-24; 8:45 am]

BILLING CODE 4910-13-P